DEPARTMENT OF THE TREASURY

Alcohol and Tobacco Tax and Trade Bureau

27 CFR Part 9

[T.D. TTB-55]

RIN 1513-AB32

Los Carneros Viticultural Area; Technical Amendment (2006R-224P)

AGENCY: Alcohol and Tobacco Tax and Trade Bureau, Treasury.

ACTION: Final rule; Treasury decision.

SUMMARY: In this Treasury decision, the Alcohol and Tobacco Tax and Trade Bureau makes a technical amendment to its regulations to clarify the viticultural significance of the terms “Los Carneros” and “Carneros” in relation to the existing Los Carneros viticultural area.

DATES: Effective Date: November 15, 2006.

FOR FURTHER INFORMATION CONTACT: N. A. Sutton, Regulations and Rulings Division, Alcohol and Tobacco Tax and Trade Bureau, 925 Lakeville St., No. 158, Petaluma, CA 94952; phone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographic features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Los Carneros Viticultural Area

Background

The Bureau of Alcohol, Tobacco and Firearms (ATF), the predecessor agency of TTB, established the Los Carneros viticultural area effective on September 19, 1983, in T.D. ATF-142, published in the Federal Register on August 18, 1983 (48 FR 37365). The establishment of the Los Carneros viticultural area is codified, and its boundary is described, in the TTB regulations at 27 CFR 9.32.

The “Evidence of Name” discussion in the preamble of T.D. ATF-142 states that the names “Los Carneros” and “Carneros” are generally used interchangeably. The 1983 final rule document explains that ATF approved many labels over a period of more than ten years that simply used the name “Carneros.” Also, ATF noted that the Spanish word “los” translates to “the” in English. ATF therefore, in this specific case, determined that “Carneros” and “Los Carneros” are not different names, but rather are equivalent forms of the same name. Consequently, ATF concluded that either “Los Carneros” or “Carneros” should be allowed for use on labels and in advertising to refer to the Los Carneros viticultural area.

Currently, paragraph (a) of § 9.32, states, “The name of the viticultural area described in this section is ‘Los Carneros.’ ” To clarify that the “Los Carneros” and “Carneros” names both have the same and equal viticultural significance in the context of this viticultural area, TTB is amending paragraph (a) of 27 CFR 9.32. This technical amendment clarifies the fact that either “Los Carneros” or “Carneros” standing alone may be used as the name of the viticultural area, and that both terms are viticulturally significant for the purposes of part 4 of the TTB regulations.

Impact on Current Wine Labels

This technical amendment to the Los Carneros viticultural area does not affect currently approved wine labels that use the “Los Carneros” or “Carneros” names. Part 4 of the TTB regulations prohibits any label reference on a wine that indicates or implies an origin other than the wine's true place of origin. For a wine to be eligible to use as an appellation of origin a viticultural area name or other term specified as being viticulturally significant in part 9 of the TTB regulations, at least 85 percent of the wine must be derived from grapes grown within the area represented by that name or other term, and the wine must meet the other conditions listed in 27 CFR 4.25(e)(3). Different rules apply if a wine has a brand name containing a viticultural area name or other viticulturally significant term that was used as a brand name on a label approved before July 7, 1986. See 27 CFR 4.39(i)(2) for details.

Regulatory Flexibility Act

Because no notice of proposed rulemaking is required, the provisions of the Regulatory Flexibility Act (5 U.S.C. chapter 6) do not apply.

Inapplicability of Prior Notice and Comment and Delayed Effective Date Procedures

Because this regulatory action merely codifies an existing policy adopted in 1983 as part of a prior rulemaking action that included a public notice and comment period, TTB has determined that no notice of proposed rulemaking and public comment period are required under 5 U.S.C. 553(b). For the same reason, this final rule is not subject to the delayed effective date requirement of 5 U.S.C. 553(d).

Executive Order 12866

This final rule is not a significant regulatory action as defined by Executive Order 12866, 58 FR 51735. Therefore, it requires no regulatory assessment.

Drafting Information

N. A. Sutton of the Regulations and Rulings Division drafted this notice.

List of Subjects in 27 CFR Part 9

Wine.

The Regulatory Amendment

For the reasons discussed in the preamble, we amend 27 CFR, chapter 1, part 9, as follows:

PART 9—AMERICAN VITICULTURAL AREAS

1. The authority citation for part 9 continues to read as follows:

Authority: 27 U.S.C. 205.

Subpart C—Approved American Viticultural Areas

2. Section § 9.32 is amended by revising paragraph (a) to read as follows:

§ 9.32 Los Carneros.

(a) Name. The name of the viticultural area described in this section is “Los Carneros”. “Carneros” may also be used as the name of the viticultural area described in this section. For purposes of part 4 of this chapter, “Los Carneros” and “Carneros” are terms of viticultural significance.

* * * * *

Signed: October 2, 2006.
John J. Manfreda,
Administrator.
Approved: October 13, 2006.
Timothy E. Skud,
Deputy Assistant Secretary (Tax, Trade, and Tariff Policy).

[FR Doc. E6-19231 Filed 11-14-06; 8:45 am]

BILLING CODE 4810-31-P